OFFICE OF PERSONNEL MANAGEMENT

Submission for Review: Questionnaire for Public Trust Positions (SF 85P) and Supplemental Questionnaire for Selected Positions (SF 85P-S); Correction

AGENCY: Office of Personnel Management.

ACTION: 30-Day notice and request for comments; correction.

SUMMARY: This notice corrects a word in the SUMMARY section of an information collection notice that was published in the Federal Register on January 31, 2024, regarding the renewal of the Questionnaire for Public Trust Positions (SF 85P) and Supplemental Questionnaire for Selected Positions (SF 85P-S).

FOR FURTHER INFORMATION CONTACT: Alexys Stanley at 202-936-2501 or SuitEAForms@opm.gov.

SUPPLEMENTARY INFORMATION: In the Federal Register of January 31, 2024 (89 FR 6139-6140), in FR Doc. 2024-01859, on page 6139 in the first column, in the 7th line of the SUMMARY section, the word “revise” is corrected to read “reinstate”.

Dated: February 7, 2024.
Kayyonne Marston,
Federal Register Liaison.

[FR Doc. 2024-02887 Filed 2-12-24; 8:45 am]

BILLING CODE 6325-66-P